FEDERAL MARITIME COMMISSION

Ocean Transportation Intermediary License Revocations

The Commission gives notice that the following Ocean Transportation Intermediary license has been revoked pursuant to section 19 of the Shipping Act of 1984 (46 U.S.C. 40101) effective on the date shown.

License No.: 022069N.

Name: Unique Logistics International (ATL) LLC.

Address: 510 Plaza Drive, Suite 2290, Atlanta, GA 30349.

Date Revoked: October 15, 2012.

Reason: Failed to maintain a valid bond.

Vern W. Hill,
Director, Bureau of Certification and Licensing.

[FR Doc. 2012-28476 Filed 11-21-12; 8:45 am]

BILLING CODE 6730-01-P